DEPARTMENT OF DEFENSE

Defense Logistics Agency

Privacy Act of 1974; Computer Matching Program

AGENCY: Defense Manpower Data Center, Defense Logistics Agency, DOD.

ACTION: Notice of a computer matching agreement.

SUMMARY: Subsection (e)(12) of the Privacy Act of 1974, as amended, (5 U.S.C. 552a) requires agencies to publish advance notice of any proposed or revised computer matching program by the matching agency for public comment. The Department of Defense (DoD), as the matching agency under the Privacy Act, is hereby giving notice to the record subjects of a computer matching program between the Office of Personnel Management (OPM) and the DoD that records are being matched by computer. The goal of the match is to identify individuals who are improperly receiving credit for military service in their civil service annuities or annuities based on the “guaranteed minimum” disability formula. This match will identify and/or prevent erroneous payments under the Civil Service Retirement Act (CSRA) and the Federal Employees Retirement System Act (FERSA) pay systems.

DATES: This proposed action will become effective March 10, 2004 and the computer matching will proceed accordingly without further notice, unless comments are received which would result in a contrary determination or if the Office of Management and Budget or Congress objects thereto. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended, (5 U.S.C. 552a), the DoD and OPM have concluded an agreement to conduct a computer matching program between the agencies. The purpose of the match is to exchange personal data between the agencies for identification of individuals who are improperly receiving military retired pay.

A copy of the computer matching agreement between the OPM and the DoD is available upon request. Requests should be submitted to the address caption above or to the chief, Retirement Inspection Branch, Room 2309, Retirement and Insurance Service, Office of Personnel Management, 1900 E Street, NW., Washington, DC 20415.

Set forth below is the notice of the establishment of a computer matching program required by paragraph 6.c. of the Office of Management and Budget Guidelines on computer matching published on June 19, 1989, at 54 FR 25818.

The matching agreement, as required by 5 U.S.C. 552a(r) of the Privacy Act, and an advance copy of this notice was submitted on February 24, 2004, to the House Committee on Government Reform, the Senate Committee on Governmental Affairs, and the Administrator of the Office of Information and Regulatory Affairs, Office of Management and Budget pursuant to paragraph 4d of Appendix I to OMB Circular No. A-130, Federal Agency Responsibilities for Maintaining Records about Individuals', dated February 8, 1996 (February 20, 1996, 61 FR 6427).

Dated: March 1, 2004.
L.M. Bynum,
Alternate OSD Federal Register Liaison Officer, Department of Defense.

Notice of a Computer Matching Program Between the Office of Personnel Management, and the Department of Defense for Retired Military Pay

A. Participating Agencies: Participants in this computer matching program are the Office of Personnel Management (OPM) and the Defense Manpower Data Center (DMDC) of the Department of Defense (DoD). The Office of Personnel Management is the source agency, i.e., the activity disclosing the records for the purpose of the match. The DMDC is the specific recipient activity or matching agency, i.e., the agency that actually performs the computer matching.

B. Purpose of the Match: The purpose of this agreement is to establish the conditions for a computer matching program between the OPM as the source agency and the DMDC as the recipient agency. The goal of the match is to identify individuals who are improperly receiving credit for military service in their civil service annuities or annuities based on the “guaranteed minimum” disability formula. This match will identify and/or prevent erroneous payments under the CSRA and FERSA Pay system.

C. Authority for conducting the Match: It is OPM's responsibility to monitor retirement and survivor benefits paid under 5 U.S.C. 8331 (CSRA), et seq. and 5 U.S.C. 8401 (FERSA), et seq. Specifically, 5 U.S.C. 8332 is the legal authority for CSRA and 5 U.S.C. 8411 is the legal authority for FERSA for determining whether military service may be credited for civil service retirement purposes.

D. Records To Be Matched: The systems of records described below contain an appropriate routine use provisions which permits disclosure of information between agencies.

The OPM will use the system of records identified as OPM/Central-1, “Civil Service Retirement and Insurance Records,” last published at 64 FR 54930, (October 8, 1999), as amended at 65 FR 25775, May 3, 2000.

The DoD will use the system of records identified as S322.10 DMDC, Defense Manpower Data Center Data Base, published at 67 FR 78781, December 26, 2002.

E. Description of Computer Matching Program: The OPM will provide the DMDC with an electronic file which contains specified data elements of individual CSRA and FERSA annuitants. Upon receipt of the electronic file, the DMDC will perform a computer match using all nine digits of the SSN's in the OPM file against the DMDC computer database on military retired pay data. The data will be matched to identify those individuals who are being paid in apparent violation of law, i.e., the civil service annuity is based on military service other than that which was awarded (1) on account of a service connected disability incurred in combat with an enemy of the United States; (2) on account of a service connected disability caused by an instrumentality of war and incurred in the line of duty during a period war; or (3) based on non-regular (i.e., reserve) service under the provisions of 10 U.S.C. 12731-12739.

The data elements provided by the OPM for the match file will contain the names, addresses, social security number, date of birth, OPM retirement claim number, OPM provision retired codes, and annuity payment and service data of individuals currently receiving benefits from OPM. The OPM database contains approximately 1.7 million records of CSRA and FERSA retirees.

The data elements provided by DMDC to OPM are name, address, social security number, branch of service, date of birth, and date of retirement. The DMDC database contains approximately 2.0 million records of retired military personnel.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time on a semi-annual basis. By agreement between VA and DMDC, the matching program will be in effect for 18 months with an option to renew for 12 additional months unless one of the parties to the agreement advises the other by written request to terminate or modify the agreement.

G. Address for Receipt of Public Comments or Inquiries: Director, Defense Privacy Office, 1941 Jefferson Davis Highway, Suite 920, Arlington, VA 22202-4502. Telephone (703) 607-2943.

[FR Doc. 04-4893 Filed 3-9-04; 8:45 am]

BILLING CODE 5001-06-M